FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—10/02/2000
20001575 | Cox Enterprises, Inc | Tyco International Ltd | ADT Automotive Holdings, Inc.
20004903 | Sanpaolo IMI S.p.A | Assicurazioni Generali S.p.A | Gruppo Bancario Banco di Napoli.
20004956 | ConAgra, Inc | Basic American Inc | Basic Vegetable Products, L.P.
20004957 | North Castle Partners II, L.P | MaryGrace and Robert Sexton | Orchid Island Juice Company.
20004988 | Caisse de depot et placement du Quebec | Mosaic Entertainment Group, Inc | Mosaic Entertainment Group, Inc.
20005030 | Spencer F. Eccles | Wells Fargo & Company | Wells Fargo & Company.
20005050 | Wolseley plc | T.N. Morris, Jr | Calcasieu Lumber Company.
20005054 | Illinois Tool Works Inc | Tony Tako | A.J. Gerrard & Company.
20005056 | Brian L. Roberts | Global Sports, Inc | Global Sports, Inc.
20005071 | Trans World Entertainment Corporation | Terry Woodward | Waxworks, Inc
20005086 | KMR Power Corporation | FPL Group, Inc | FPL International Holdings, Inc., FPL Termovalle, Inc.
20005089 | Exelixis, Inc | Agritope, Inc | Agritope, Inc.
20005092 | Coloniale S.r.l | Specialty Foods Acquisition Corp. (debtor-in-possession) | Specialty Foods Acquisition Corp. (debtor-in-possession).
20005106 | The SKM Equity Fund III, L.P | Radiologix, Inc | Radiologix, Inc.
20005110 | Anthony Gartland | David J. Cherry | UVTEC Holdings, Inc.
20005114 | SR. Teleperformance | Dominion Resources, Inc | Dominion Resources, Inc.
20005115 | Conoco Inc. | LG&E Energy Corporaiton | LG&E Facilities Inc.
20005135 | Nordson Corporation | John Carter | Electron Fusion Devices, Inc.
20005141 | Charterhouse Equity Partners III, L.P | Edgewater Technology, Inc | CFRC, Inc., ClinForce, Inc.
Transactions Granted Early Termination—10/03/2000
20004243 | FleetBoston Financial Corporation | Switch & Data Facilities Company, Inc | Switch & Data Facilities Company, Inc.
20004902 | Intel Corporation | Ziatech Corporation | Ziatech Corporation.
20004911 | Safeguard Scientifics, Inc | Techspace, Inc | Techspace, Inc.
20004929 | Morgan Stanley Dean Witter Venture Partners | Novalux, Inc | Novalux, Inc.
20005018 | ITT Industries, Inc | TRW, Inc | TRW, Inc.
20005073 | RTM, Inc | Myron J. Nadler | Franchise Associates, Inc.
20005123 | Irrevocable Trust of Lynn D. Moore U/T/A March 18, 1997 | MiTAC International Corporation | eManage.com.
20005124 | MiTAC International Corproation | Irrevocable Trust of Lynn D. Moore U/T/A March 18, 1997 | TelePlace, Inc.
Transactions Granted Early Termination—10/04/2000
20005091 | Elan Corporation plc | Dura Pharmaceuticals, Inc | Dura Pharmaceuticals, Inc.
Transactions Granted Early Termination—10/05/2000
20004916 | Citigroup Inc | Associates First Capital Corporation | Associates First Capital Corporation.
20005166 | Pegasus Partners II, L.P | Time Products, plc | Time Products, Inc.
Transactions Granted Early Termination—10/06/2000
20004993 | United Auto Group, Inc | Geza Bodnar | Bodner Trust Dated May 19, 1992, Continental Motors, Inc.
20005039 | Warburg, Pincus Equity Partners, L.P | Gryphon Exploration Company | Gryphon Exploration Company.
20005088 | Wachovia Corporation | Davis Baldwin, Inc | Davis Baldwin, Inc.
20005113 | Biovail Corporation | William Blair Capital Partners Vl, L.P | DJ Pharma, Inc.
20005136 | GS Capital Partners lll, L.P | New Edge Holding Company | New Edge Holding Company.
20005172 | United Technologies Corporation | Linda Sue Shollmier Trust | Shollmier Distributing, Inc.
20005173 | United Technologies Corporation | J. Kenneth Shollmier Trust | Shollmier Distributing, Inc.
20005184 | Omnicom Group, Inc | Novus Marketing, Inc | Novus Marketing, Inc.
Transactions Granted Early Termination—10/10/2000
20004922 | Harshad Dharod | CKE Restaurants, Inc | Carl Karcher Enterprises, Inc.
20004974 | University Hospitals Health System | Heather Hill, Inc | Heather Hill Rehabilitation Hospital.
20004981 | Zale Lipshy University Medical Center, Inc | Texas Health Resources | St. Paul Medical Center.
20005008 | RailWorks Corporation | United Industrial Corporation | AAl Corporation.
20005042 | Prison Realty Trust, Inc | Prison Management Services, Inc | Prison Management Services, Inc.
20005044 | Prison Realty Trust, Inc | Juvenile and Jail Facility Management Services, Inc | Juvenile and Jail Facility Management Services, Inc.
20005079 | Jeffrey H. Smulyan | Salem Communications Corporation | Salem Communications Corporation.
20005082 | Frontenance Vll Limited Partnership | International Data Group, Inc | FCW Government Technology Group, Inc.
20005093 | Oak Investments Partners Vlll, L.P | GenOA Corporation | GenOA Corporation.
20005107 | Brian L. Roberts | Global Interactive Communications Group, Inc | Global Interactive Communications Group, Inc.
20005120 | Manugistics Group, Inc | Talus Solutions | Talus Solutions.
20005121 | GAP Coinvestment Partners, L.P | Manugistics Group, Inc | Manugistics Group, Inc.
20005122 | GAP Coinvestment Partners, L.P | Manugistics Group, Inc | Manugistics Group, Inc.
20005133 | First Data Corporation | FleetBoston Financial Corporation | BankBoston Merchant Services, L.L.C.
20005137 | Atos S.A | Koninklijke Philips Electronics N.V | Origin B. V.
20005157 | Hewlett-Packard Company | Oscar and Zlata Foundation | Indigo N.V.
20005186 | VINCI S.A | Suez Lyonnaise des Eaux | GROUPE GTM.
Transactions Granted Early Termination—10/11/2000
20004978 | Finisar Corporation | Gregory H. Olsen | Sensors Unlimited, Inc.
2000-4987 | Gregory H. Olsen | Finisar Corporation | Finisar Corporation.
20005138 | Thomas F. Pyle, Jr., and Judith D. Pyle | Commonwealth Investors II, L.P | National Picture & Frame Company, debtor-in-possession.
20005143 | Tyco International Ltd | Urban Media Communications Corportion | Urban Media Communications Corportion.
20005144 | Koninklijke Philips Electronics N.V | Digimarc Corporation | Digimarc Corporation.
20005146 | AT&T Corp | Pogo.com Inc (fka TE Networks, Inc.) | Pogo.com Inc (fka TE Networks, Inc.)
20005147 | Pohlad Companies | Whitman Corporation | Whitman Corporation.
20005148 | Whitman Corporation | Pohlad Companies | PepsiAmericas, Inc.
20005151 | Chevron Corporation | Petrocosm Corporation | Petrocosm Corporation.
20005152 | Motorola, Inc | Printrak International Inc | Printrak International Inc.
20005159 | Reliant Energy, Incorporated | Grande Communications, Inc | Grande Communications, Inc.
20005160 | WESCO International, Inc | Harry Felber | Champion Industries.
20005161 | Timothy J. Mott | All Bases Covered, Inc | All Bases Covered, Inc.
20005162 | TCV IV, L.P | All Bases Covered, Inc | All Bases Covered, Inc.
20005167 | Franz Haniel & Cie GmbH | Hubert Family Trust | Fusion, LLC, Hurbert Distributing Co., Hubert Enterprises Incorporated.
20005174 | Inktomi Corporation | FastFoward Networks, Inc | FastFoward Networks, Inc.
20005175 | UIL Holdings Corporation | Michael McPhee | McPhee Electric, Ltd., LLC, McPhee Utility Power and Signal, Ltd.
20005176 | Olympus Growth Fund III, L.P | Symmetry Medical, Inc | Symmetry Medical, Inc.
20005177 | Ace Cash Express, Inc | Morris Silverman | U.S. Money Order Company, Inc.
20005178 | Cadbury Schweppes plc | Triarc Companies, Inc | Snapple Beverage Group, Inc., Royal Crown Company, Inc.
20005180 | Societe Generale | Unocal Corporation | Poco Graphite, Inc., Unocal Corporation.
20005182 | Hellman & Friedman Capital Partners IV. L.P | UPromise, Inc | UPromise, Inc.
20005183 | Interpublic Group of Companies, Inc. (The) | Michael W. Kempner | The MWW Group, Inc.
20005190 | Macrovision Corporation | Digimarc Corporation | Digimarc Corporation.
20005194 | Houghton Mifflin Company | Classwell Learning Group, Inc | Classwell Learning Group, Inc.
20005198 | Wilsons The Leather Experts Inc | Donald E. Borsack | El Portal Group, Inc.
20005208 | Alec E. Gores | Mattel, Inc | Mattel, Inc.
20005220 | Reed International PLC | PartMiner, Inc | PartMiner, Inc.
20010004 | Estate of Pierre Peladeau | Andre Chagnon | La Groupe Videotron Ltee.
Transactions Granted Early Termination—10/12/2000
20005221 | Elsevier NV | PartMiner, Inc | PartMiner, Inc.
Transactions Granted Early Termination—10/13/2000
20004544 | William and Jerry Ungar (husband and wife) | American Pad & Paper Company | American Pad & Paper Company. American Pad & Paper Company of Delaware, Inc., American Pad & Paper Sales Company, Inc., AP&P Manufacturing, Inc., WR Aquisition, Inc.
20004971 | Exelon Corporation | Vivendi S.A | Sithe Energies, Inc.
20005215 | Warburg, Pincus Equity Partners, L.P | ChartOne, Inc | ChartOne, Inc.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 00-29055 Filed 11-13-00; 8:45 am]

BILLING CODE 6750-01-M